SMALL BUSINESS ADMINISTRATION

[Declaration of Disaster #3618]

Commonwealth of the Northern Mariana Islands

As a result of the President's major disaster declaration for Public Assistance on August 26, 2004, and Amendment 1 adding Individual Assistance on August 27, 2004, I find that the islands of Rota, Saipan, and Tinian, located within the Commonwealth of the Northern Mariana Islands, constitute a disaster area due to damages caused by flooding, high surf, storm surge, and high winds as a result of Super Typhoon Chaba occurring on August 21, 2004, and continuing. Applications for loans for physical damage as a result of this disaster may be filed until the close of business on October 26, 2004, and for economic injury until the close of business on May 27, 2005, at the address listed below or other locally announced locations: U.S. Small Business Administration, Disaster Area 4 Office, P.O. Box 419004, Sacramento, CA 95841-9004.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 361806 and for economic injury the number is 9ZT100.

(Catalog of Federal Domestic Assistance Program Nos. 59002 and 59008)
Dated: August 30, 2004.
Cheri L. Cannon,
Acting Associate Administrator for Disaster Assistance.

[FR Doc. 04-20183 Filed 9-3-04; 8:45 am]

BILLING CODE 8025-01-P